EXECUTIVE OFFICE OF THE PRESIDENT

Office of National Drug Control Policy

Appointment of Members of Senior Executive Service Performance Review Board

AGENCY: Office of National Drug Control Policy.

ACTION: Notice of appointments.

SUMMARY: Notice is hereby given of the names of members of the Office of National Drug Control Policy (ONDCP) Performance Review Board (PRB). The members of the PRB for ONDCP are: Ms. Martha Gagné (as Chair), Mr. David Holtgrave, Mr. Eric Talbot, and Ms. Michele Marx.

FOR FURTHER INFORMATION CONTACT: Please direct any questions to Robert Kent, General Counsel, (202) 395-6745, Office of National Drug Control Policy, Executive Office of the President, Washington, DC 20503.

SUPPLEMENTARY INFORMATION: The authority for this notice is 5 U.S.C. 4314(c), which requires each agency to establish, in accordance with regulations prescribed by the Office of Personnel Management, one or more SES Performance Review Boards. The Board shall review the initial appraisal of a senior executive's performance by the supervisor and recommend final action to the appointing authority regarding matters related to senior executive performance.

Dated: August 17, 2022.
Robert Kent,
General Counsel.

[FR Doc. 2022-18022 Filed 8-19-22; 8:45 am]

BILLING CODE 3280-F5-P